Proclamation 8134 of April 27, 2007

National Charter Schools Week, 2007

By the President of the United States of America

A Proclamation

Across our country, charter schools are providing quality education for America's students. During National Charter Schools Week, we recognize the important contributions of charter schools and underscore our commitment to ensuring that all children receive the education they need to lead lives of purpose and success.

Charter schools are public schools that provide families with a valuable educational alternative. Because they are not bound by many regulatory requirements, charter schools have the flexibility to innovate in ways that will best meet students' academic needs. Today, there are about 4,000 charter schools in 40 States and the District of Columbia helping more than one million students realize their full potential.

My Administration is dedicated to providing parents with more choices so that their children will have the best opportunity to gain the skills necessary to compete and succeed in the global economy. Through the No Child Left Behind Act, we are setting high standards, expanding parents' options, and closing the achievement gap. Charter schools are getting results and helping guide children across the country on the path to a better life.

This week we thank educational entrepreneurs for supporting charter schools, and we honor all those involved in charter schools for helping their students reach high expectations.

NOW, THEREFORE, I, GEORGE W. BUSH, President of the United States of America, by virtue of the authority vested in me by the Constitution and laws of the United States, do hereby proclaim April 29 through May 5, 2007, as National Charter Schools Week. I applaud our Nation's charter schools and all those who make them a success, and I call on parents of charter school students to share their success stories and help Americans understand more about the important work of charter schools.

IN WITNESS WHEREOF, I have hereunto set my hand this twenty-seventh day of April, in the year of our Lord two thousand seven, and of the Independence of the United States of America the two hundred and thirty-first.

[FR Doc. 07-2170

Filed 4-30-07; 9:00 am]

Billing code 3195-01-P